DEPARTMENT OF JUSTICE

Notice of Lodging of Proposed Consent Decree Under the Comprehensive Environmental Response, Compensation, and Liability Act

On August 25, 2017, the Department of Justice lodged a proposed Consent Decree with the United States District Court for the Southern District of West Virginia in the lawsuit entitled United States v. PAR Industrial Corporation, Civil Action No. 3:16-cv-1703.

The Consent Decree resolves claims against PAR Industrial Corporation (“PAR” or “the Defendant”) arising under the Comprehensive Environmental Response, Compensation, and Liability Act relating to the Par Industries, Inc. Superfund Site, located in Nitro, Putnam County, West Virginia. Under the Consent Decree, Defendant will endeavor to sell the majority of the property on which the Site is located and distribute the proceeds of any sale(s) between the United States and the Defendant; ninety percent of the first $1 million of sale(s) proceeds shall be distributed the United States, and eighty-five percent of any additional sales proceeds shall be paid to the United States as well. Additionally, the Defendant shall pay $300,000 in cash to the United States, payable in three installments over a period of three years. The proposed Consent Decree will resolve all CERCLA claims alleged in this action by the United States against Defendant. Defendant has an inability to pay the United States' full demand.

The publication of this notice opens a period for public comment on the Consent Decree. Comments should be addressed to the Assistant Attorney General, Environment and Natural Resources Division, and should refer to United States v. PAR Industrial Corporation, D.J. Ref. No. 90-11-3-10978. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department Web site: https://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $40.25 (25 cents per page reproduction cost) payable to the United States Treasury. For a paper copy without the exhibits and signature pages, the cost is $10.50.

Jeffrey Sands,
Assistant Section Chief, Environmental Enforcement Section, Environment and Natural Resources Division.

[FR Doc. 2017-18521 Filed 8-31-17; 8:45 am]

BILLING CODE 4410-15-P